CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed Senior Corps Independent Living Evaluation Survey. Senior Corps will require a sample of Senior Companion clients and caregivers to complete the survey. JBS International, Inc., an independent evaluator, will administer the survey, analyze the data, and report the results to CNCS.

Copies of the information collection request can be obtained by contacting the office listed in the addresses section of this notice.

DATES: Written comments must be submitted to the individual and office listed in the ADDRESSES section by January 28, 2013.

ADDRESSES: You may submit comments, identified by the title of the information collection activity, by any of the following methods:

(1) By mail sent to: Corporation for National and Community Service, Senior Corps; Attention: Zach Rhein, Program Officer, Room 9408-A; 1201 New York Avenue NW., Washington, DC 20525.

(2) By hand delivery or by courier to the CNCS mailroom at Room 8100 at the mail address given in paragraph (1) above, between 9:00 a.m. and 4:00 p.m. Eastern Time, Monday through Friday, except Federal holidays.

(3) By fax to: (202) 606-3475, Attention: Zach Rhein, Program Officer.

(4) Electronically through www.regulations.gov. Individuals who use a telecommunications device for the deaf (TTY-TDD) may call 1-800-833-3722 between 8:00 a.m. and 8:00 p.m. Eastern Time, Monday through Friday.

FOR FURTHER INFORMATION CONTACT: Zach Rhein, (202) 606-6693, or by email at zrhein@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The proposed instrument will collect information from a sample of Senior Companion clients and caregivers. The purpose of the survey is to assess the feasibility of conducting a longitudinal, quasi-experimental evaluation of the impact of independent living and respite services on clients' social ties and perceived social support. The information will be collected by trained interviewers using multi-modal formats including paper, online, or telephone survey. The results of the survey may also be used to inform the feasibility of using a similar instrument to measure client and caregiver outcomes for an evaluation of RSVP.

The instrument uses items from the Health and Retirement Study (HRS), an ongoing study funded by the National Institute on Aging/NIH (NIA U01AG009740) and Social Security Administration.

Current Action

This is a new information collection request.

Type of Review: New.

Agency: Corporation for National and Community Service.

Title: Senior Corps Independent Living Evaluation Survey.

OMB Number: None.

Agency Number: None.

Affected Public: Recipients of Senior Companion Independent Living services.

Total Respondents: 1400.

Frequency: Once per year.

Average Time Per Response: Averages 40 minutes each.

Estimated Total Burden Hours: 933.

Total Burden Cost (capital/startup): None.

Total Burden Cost (operating/maintenance): None.

Comments submitted in response to this notice will be summarized and/or included in the request for Office of Management and Budget approval of the information collection request; they will also become a matter of public record.

Dated: November 20, 2012.
Erwin Tan,
Director, Senior Corps.

[FR Doc. 2012-28763 Filed 11-26-12; 8:45 am]

BILLING CODE 6050-$$-P